DEPARTMENT OF THE INTERIOR

Bureau of Land Management

[LLORV00000.L10200000.DD0000; HAG 11-0076]

Notice of Public Meeting

AGENCY: Bureau of Land Management, Interior.

ACTION: Notice of Public Meeting.

SUMMARY: Pursuant to the Federal Land Policy and Management Act and the Federal Advisory Committee Act, the U.S. Department of the Interior, Bureau of Land Management (BLM) Southeast Oregon Resource Advisory Council (SEORAC) will meet as indicated below:

DATES: The SEORAC meeting will take place January 20, 2011 and January 21, 2011.

ADDRESSES: The meeting will be held at the Harney County Community Center Conference Room, 484 Broadway, Burns, Oregon 97720.

FOR FURTHER INFORMATION CONTACT: Mark Wilkening, Public Affairs Specialist, BLM Vale District Office, 100 Oregon Street, Vale, Oregon 97918, (541) 473-6218 or e-mail mark_wilkening@blm.gov.

SUPPLEMENTARY INFORMATION: The meeting will take place on January 20 and January 21, 2011, at the Harney County Community Center Conference Room, 484 Broadway, Burns, Oregon. On January 20, the meeting will be held from 1 p.m. to 4 p.m. (Pacific Time). On January 21, the meeting will be held from 8 a.m. to 12 p.m. (Pacific Time). The meeting may include such topics as Oregon Natural Desert Association's Wilderness proposal; an update on Oregon Department of Fish and Wildlife Sage-grouse plan decision; an update on the transmission line proposal status for Boardman to Hemmingway; the North Steens, Ladd Canyon, et al. and other energy activities; an update on BLM's Vegetation Environmental Impact; the Ruby Pipeline and the biomass plant in Lakeview; subgroup reports and other matters as may reasonably come before the council. The public is welcome to attend all portions of the meeting and may make oral comments to the SEORAC at 10 a.m. on January 21, 2011. Those who wish to verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6218 as soon as possible.

Larry Frazier,
Vale Associate District Manager.

[FR Doc. 2010-30959 Filed 12-8-10; 8:45 am]

BILLING CODE 4310-33-P